PEACE CORPS

Public Availability of FY 2010 Service Contract Inventories

ACTION: Notice of public availability of FY 2010 Service Contract Inventories.

SUMMARY: In accordance with Section 743 of Division C of the Consolidated Appropriations Act of 2010 (Pub. L. 111-117), Office of Acquisitions and Contract Management is publishing this notice to advise the public of the availability of the FY 2010 Service Contract inventory. This inventory provides information on service contract actions over $25,000 that were made in FY 2010. The information is organized by function to show how contracted resources are distributed throughout the agency. The inventory has been developed in accordance with guidance issued on November 5, 2010 by the Office of Management and Budget's Office of Federal Procurement Policy (OFPP). OFPP's guidance is available at: http://www.whitehouse.gov/sites/default/files/omb/procurement/memo/service-contract-inventories-guidance-11052010.pdf. Office of Acquisitions and Contract Management has posted its inventory and a summary of the inventory on the Peace Corps homepage at the following link: http://multimedia.peacecorps.gov/multimedia/pdf/policies/PC_Service_Contracts_FY2010.pdf.

FOR FURTHER INFORMATION CONTACT: Questions regarding the service contract inventory should be directed to Nikki Hunter, Contract Specialist in the Office of Acquisitions and Contract Management at 202-692-2627 or nhunter@peacecorps.gov.

Dated: January 31, 2011.
Earl W. Yates,
Associate Director, Management.

[FR Doc. 2011-2462 Filed 2-3-11; 8:45 am]

BILLING CODE 6015-01-P